DEPARTMENT OF JUSTICE

Antitrust Division

Notice Pursuant to the National Cooperative Research and Production Act of 1993—RXHUB LLC

Notice is hereby given that, on May 14, 2001, pursuant to Section 6(a) of the National Cooperative Research and Production Act of 1993, 15 U.S.C. 4301 et seq. (“the Act”), RxHub LLC has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to Section 6(b) of the Act, the identities of the parties are AdvancePCS, Dallas, TX; Express Scripts, Inc., Maryland Heights, MO; and Merck-Medco Managed Care, L.L.C., Franklin Lakes, NJ.

The nature and objectives of the venture are the development and operation of an electronic prescription and information routing service for the purpose of facilitating error-free prescription benefit communications.

Constance K. Robinson,
Director of Operations, Antitrust Division.

[FR Doc. 01-15671 Filed 7-13-01; 8:45 am]

BILLING CODE 4410-11-M